DEPARTMENT OF HOMELAND SECURITY

[Docket No. DHS-2010-0018]

National Protection and Programs Directorate; Agency Information Collection Activities: United States Visitor and Immigrant Status Indicator Technology (US-VISIT) Biometric Data Collection at the Ports of Entry

AGENCY: National Protection and Programs Directorate, DHS.

ACTION: 30-Day notice and request for comments; Revision of existing information collection request: 1600-0006.

SUMMARY: The Department of Homeland Security, National Protection and Programs Directorate (NPPD), US-VISIT, will submit the following Information Collection Request (ICR) to the Office of Management and Budget (OMB) for review and clearance in accordance with the Paperwork Reduction Act of 1995 (Pub. L. 104-13, 44 U.S.C. Chapter 35). NPPD is soliciting comments concerning this biometric data collection at the ports of entry. DHS previously published this information collection request (ICR) in the Federal Register on March 9, 2010, at 75 FR 10809, for a 60-day public comment period. The purpose of this notice is to allow an additional 30 days for public comments.

DATES: Comments are encouraged and will be accepted until June 18, 2010. This process is conducted in accordance with 5 CFR 1320.10.

ADDRESSES: Interested persons are invited to submit written comments on the proposed information collection to the Office of Information and Regulatory Affairs, Office of Management and Budget. Comments should be addressed to OMB Desk Officer, Department of Homeland Security, Office of Civil Rights and Civil Liberties. Comments must be identified by DHS-2010-0018 and may be submitted by one of the following methods:

• Federal eRulemaking Portal: http://www.regulations.gov.

• E-mail: oira_submission@omb.eop.gov. Include the docket number in the subject line of the message.

• Fax: (202) 395-5806.

Instructions: All submissions received must include the words “Department of Homeland Security” and the docket number for this action. Comments received will be posted without alteration at http://www.regulations.gov, including any personal information provided.

SUPPLEMENTARY INFORMATION: DHS established US-VISIT to meet specific legislative mandates intended to strengthen border security, provide decision-makers with critical information, and demonstrate progress toward national security performance goals, therefore expediting trade and travel and supporting immigration system improvements. US-VISIT collects and disseminates biometric information (digital fingerprint images and facial photos) from individuals during their entry into the United States. This information is disseminated to specific DHS components; other Federal agencies; Federal, State and local law enforcement agencies; and the Federal intelligence community to assist in the decisions they make related to, and in support of, the homeland security mission. Beginning on December 10, 2007, US-VISIT expanded the collection of fingerprints from two prints to 10. The new collection time of 35 seconds, an increase from the previous 15 seconds, is a result of this change, and includes officer instructions. Additionally, on December 19, 2008, DHS published a final rule, entitled “United States Visitor and Immigrant Status Indicator Technology Program (US-VISIT); Enrollment of Additional Aliens in US-VISIT; Authority to Collect Biometric Data from Additional Travelers and Expansion to the 50 Most Highly Trafficked Land Border Ports of Entry” 73 FR 77473. That rule became effective on January 18, 2009, and expanded the population of aliens subject to US-VISIT requirements.

DHS received three comments in response to the 60-day notice published on March 9, 2010.

Comment: One commenter reported that he had taken manual fingerprints for years and stated that it was better to take an extra 20 seconds to capture all 10 digits in order to better validate an individual's identity.

Response: US-VISIT relies on the collection and use of inkless fingerscans to establish and verify identity in support of homeland security decision-makers. US-VISIT continues to refine the fingerscan technology capability to accurately capture biometric data to enhance security while expediting legitimate travel and trade.

Comment: One commenter stated that the fingerprint technology is accurate and effective, that a 35 second delay in entering the United States to capture fingerprints is a very small amount of time to ensure the safety of United States citizens and praised DHS for “great work.”

Response: US-VISIT is pleased to receive this positive appraisal. By providing decision-makers with the information they need—where and when they need it—US-VISIT is helping to make U.S. immigration and border management efforts more collaborative, streamlined, and effective.

Comment: One commenter stated that because violence on the U.S. border is on the rise and the situation will most likely become worse over the coming years, it is essential that law enforcement officials be given access to the US-VISIT program to ensure the security of Americans domestically.

Response: Under US-VISIT, information systems associated with border inspections and security are being linked. Biometric and other information are available to appropriate staff in U.S. Customs and Border Protection (CBP), Immigration and Customs Enforcement (ICE), U.S. Citizenship and Immigration Services (CIS), Department of State consular officers, and other staff involved with the adjudication of visa applications at overseas posts; other DHS officers; and appropriate officers of the United States intelligence and law enforcement community when needed for the performance of their duties. US-VISIT also supports other Federal agencies, State and local law enforcement, and the intelligence community in their screening and enforcement missions by sharing biometrics of individuals deemed a threat by DHS and by receiving data from other agencies for individuals deemed to be a threat to national security. US-VISIT will continue to integrate appropriate additional databases and ensure interoperability with other databases as appropriate. In so doing, US-VISIT directly supports the DHS strategic goal of protecting our Nation from dangerous people.

OMB is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, NPPD, US-VISIT.

Title: US-VISIT Program.

Form: N/A.

OMB Number: 1600-0006.

Frequency: One-time collection.

Affected Public: Foreign visitors and immigrants into the United States.

Number of Respondents: 156,732,422.

Estimated Time per Respondent: 35 seconds.

Total Burden Hours: 1,520,304 annual burden hours.

Total Burden Cost (capital/startup): $0.

Total Burden Cost (operating/maintaining): $53,211,000.

Thomas Chase Garwood, III,
Chief Information Officer, National Protection and Programs Directorate, Department of Homeland Security.

[FR Doc. 2010-11915 Filed 5-18-10; 8:45 am]

BILLING CODE P